DEPARTMENT OF JUSTICE

Notice of Lodging of Proposed Consent Decree Under the Toxic Substances Control Act

On September 9, 2025, the Department of Justice lodged a proposed Consent Decree with the United States District Court for the Eastern District of Missouri in the lawsuit entitled United States v. Orlando Askins et al., Civil Action No. 4:24-cv-729.

The United States filed a Complaint in this matter alleging violations of the Toxic Substances Control Act's regulations, known as the “RRP Rule,” which govern the renovation, repair, and painting of pre-1978 structures that may contain lead paint. The proposed Consent Decree resolves these alleged violations, and secures injunctive relief designed to ensure Defendants' compliance with the RRP Rule. Specifically, Defendants must designate a compliance officer, hire only certified contractors and subcontractors, perform dust-clearance sampling post renovation, and comply with enhanced notice and recordkeeping requirements. The proposed Consent Decree is binding on Defendants and any future entities they come to own, operate, manage, or control during the term of the Decree.

The publication of this notice opens a period for public comment on the proposed Consent Decree. Comments should be addressed to the Assistant Attorney General, Environment and Natural Resources Division, and should refer to United States v. Orlando Askins et al., D.J. Ref. No. 90-5-1-1-12914. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Eric D. Albert,
Assistant Section Chief, Environmental Enforcement Section, Environment and Natural Resources Division.

[FR Doc. 2025-17604 Filed 9-11-25; 8:45 am]

BILLING CODE 4410-15-P